PATENT AND TRADEMARK OFFICE

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Madrid Protocol.

Form Number(s): PTO-2131, PTO-2132, PTO-2133.

Agency Approval Number: 0651-0051.

Type of Request: Revision of a currently approved collection.

Burden: 1,008 hours annually.

Number of Respondents: 4,308 responses per year.

Avg. Hours Per Response: The USPTO estimates that it will take the public approximately two minutes to one hour (0.03 to 1.0 hours) to complete the information in this collection, including the time to gather the necessary information, prepare the forms or documents, and submit the completed request.

Needs and Uses: The Madrid Protocol is an international treaty that allows a trademark owner to seek registration in any of the participating countries by filing a single international application. The public uses this collection to submit applications for international registration and related requests to the USPTO under the Madrid Protocol. This collection contains electronic forms for filing the Application for International Registration (PTO-2131), Subsequent Designation (PTO-2132), and Response to a Notice of Irregularity (PTO-2133) online through the USPTO web site. The USPTO is adding one petition to this collection, the Petition to Review Refusal to Certify an International Application. No form is provided for this petition.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0051 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before June 2, 2006 to David Rostker, OMB Desk Officer, Room 10202, New Executive Office Building, 725 17th Street NW., Washington, DC 20503.

Dated: April 26, 2006.
Susan K. Brown,
Records Officer, USPTO, Office of the Chief Information Officer, Architecture, Engineering and Technical Services, Data Architecture and Services Division.

[FR Doc. E6-6652 Filed 5-2-06; 8:45 am]

BILLING CODE 3510-16-P